DEPARTMENT OF ENERGY

Federal Energy Regulatory Commission

[Docket No. EL08-69-000]

New England Conference of Public Utilities Commissioners, Inc.,Complainants v. Bangor Hydro-Electric Company, Central Maine Power Company, National Grid, USA, NSTAR Electric & Gas Corporation, Northeast Utilities Service Company, The United Illuminating Company, Vermont Electric Power Company, Respondents; Notice of Complaint

June 16, 2008.

Take notice that on June 12, 2008, the New England Conference of Public Utilities Commissioners, Inc. (NECPUC) filed a complaint against Bangor Hydro-Electric Company, Central Maine Power Company, National Grid, USA, NSTAR Electric & Gas Corporation, Northeast Utilities Service Company, The United Illuminating Company, and Vermont Electric Power Company. Among other things, NECPUC states that it seeks to limit application of the return on equity cost adder for certain qualified projects.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions or protests must be filed on or before the comment date. The Respondent's answer, motions to intervene, and protests must be served on the Complainants.

The Commission encourages electronic submission of Respondent's answer, protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on July 2, 2008.

Kimberly D. Bose,
Secretary.

[FR Doc. E8-14065 Filed 6-20-08; 8:45 am]

BILLING CODE 6717-01-P